DEPARTMENT OF LABOR

Employment and Training Administration

Notice of Availability of Funds and Solicitation for Grant Applications (SGA) for Community-Based Job Training Grants

Announcement type: New. Notice of Solicitation for Grant Applications.

Funding Opportunity Number: SGA/DFA-PY-04-10.

Catalog of Federal Assistance Number: 17.261.

Key Dates: The closing date for receipt of applications under this announcement is July 6, 2005. Applications must be received at the address below no later than 5 p.m. (eastern time). Application and submission information is explained in detail in Section IV of this SGA. Virtual Prospective Applicant Conferences will be held for this grant competition. The dates and access information for these prospective applicant conferences will be posted on ETA's Web site at http://www.doleta.gov/business/Community-BasedJobTrainingGrants.cfm.

SUMMARY: The Employment and Training Administration (ETA), U.S. Department of Labor (DOL), announces the availability of approximately $125 million in grant funds for Community-Based Job Training Grants.

Community-Based Job Training Grants will be awarded through a competitive process to support workforce training for high-growth industries through the national system of community and technical colleges. The primary purpose of these grants is to build the capacity of community colleges to train workers to develop the skills required to succeed in (i) local industries and occupations that are expected to experience high growth and (ii) industries where demand for qualified workers is outstripping the supply. Funds will be awarded to community colleges to engage in a combination of capacity building and training activities targeted at high-growth or high-demand industries in the local economy.

In awarding Community-Based Job Training Grants, every effort will be made to fairly distribute grants across rural and urban areas and across the different geographic regions of the United States. It is anticipated that individual awards will range in amount from $500,000 to $2 million. A second solicitation is anticipated for Fall/Winter 2005.

This solicitation provides background information and describes the application submission requirements, outlines the process that eligible entities must use to apply for funds covered by this solicitation, and details how grantees will be selected.

ADDRESSES: Mailed applications must be addressed to the U.S. Department of Labor, Employment and Training Administration, Division of Federal Assistance, Attention: Eric Luetkenhaus, Grant Officer, Reference SGA/DFA-PY-04-10, 200 Constitution Avenue, NW., Room N-4438, Washington, DC 20210. Telefacsimile (FAX) applications will not be accepted. Information about applying online can be found in Section IV (C) of this document. Applicants are advised that mail delivery in the Washington area may be delayed due to mail decontamination procedures. Hand delivered proposals will be received at the above address.

SUPPLEMENTARY INFORMATION: This solicitation consists of eight parts:

• Part I provides background information.

• Part II describes the size and nature of the anticipated awards.

• Part III describes eligible applicants and other grant specifications.

• Part IV provides information on the application and submission process.

• Part V describes the criteria against which applications will be reviewed and explains the proposal review process.

• Part VI provides award administration information.

• Part VII contains DOL agency contact information.

• Part VIII lists additional resources of interest to applicants.

I. Funding Opportunity Description

The Community-Based Job Training Grants (CBJTGs) are designed to support workforce training for high-growth industries through the national system of community and technical colleges. The primary purpose of these grants is to build the capacity of community colleges to train workers to develop the skills required to succeed in (i) local industries and occupations that are expected to experience high growth and (ii) industries where demand for qualified workers is outstripping the supply. Part 1 of this section provides an overview of ETA's demand-driven workforce investment strategies. Part 2 provides background information on the principles underlying the CBJTGs. Part 3 describes critical elements of the grants themselves.

1. The Employment and Training Administration's Demand-Driven Workforce Investment Strategies

Each year, the federal government invests over $15 billion in a state and local network of resources, known as the workforce investment system, to assist businesses in recruiting, training, and retaining a skilled workforce. While these investments have in the past supported a set of standard menu-driven services for employers and workers, the realities of today's rapidly changing global economy make it imperative that the workforce investment system support customized activities that are driven by local employer demand. This demand-driven approach to workforce development is necessary to prepare workers to take advantage of new and increasing job opportunities in high-growth/high-demand and economically vital industries and sectors of the American economy.

In a demand-driven workforce investment system, state and local Workforce Investment Boards invest strategically in workforce development activities that are relevant to the requirements of local industry and have a long-term impact on the ability of the community to meet local workforce demands. To do so, they bring to the table critical collaborative partners in the development of America's workforce: employers and education and training providers.

Within the context of these strategic partnerships, communities use a solutions-based approach to workforce development planning, in which the partnering entities work through the cycle of: (1) Collecting and analyzing information about local workforce needs and critical capacity constraints; (2) incorporating a business or demand-driven perspective into issue identification and solutions development; (3) ensuring that the right strategic partners are at the table; (4) working collaboratively to explore, frame, and implement solutions; and (5) assessing how the products and outcomes of the project can be effectively deployed and replicated. The goal of this process is to ensure that the proposed project will ultimately succeed in resolving the industry-identified workforce challenge.

The solutions-based approach engages each collaborative partner in its area of strength. Industry representatives and employers define workforce challenges facing the industry and identify the competencies and skills required for the industry's workforce. The workforce investment system provides access to human capital (youth, unemployed, underemployed, incumbent workers, and dislocated workers), assists with training programs, and places trained workers in jobs. Community colleges and other training providers assist in developing competency models and training curricula and train new and incumbent workers. The K-12 public education system ensures that investments at the community college are part of a continuum of education and training leading to successful skill development.

ETA first modeled the power of these strategic partnerships through the President's High Growth Job Training Initiative (High Growth Initiative). The High Growth Initiative is a strategic effort to prepare workers for new and increasing job opportunities in high-growth/high-demand and economically vital industries and sectors of the American economy. Through the initiative, ETA identifies high-growth/high-demand industries, evaluates their skills needs, and funds local and national partnership-based demonstration projects that provide workforce solutions to ensure that individuals can gain the skills to get good jobs in these rapidly expanding or transforming industries. The products, models and effective approaches that result from the High Growth Initiative will be broadly disseminated to employers, education and training providers, and the workforce investment system to build their capacity to respond to employer demands.

2. Background on the Community-Based Job Training Grants

The Community-Based Job Training Grants (CBJTGs) continue the work of the High Growth Initiative by incorporating its focus on high-growth, high-demand industries and its emphasis on the role of strategic partnerships in workforce development. The CBJTGs build on the work of the High Growth Initiative by highlighting the critical role community colleges play as partners in the demand-driven workforce investment system, and by supporting community efforts to link training initiatives to the skill demands of local employers. As a result, CBJTG activities will lead to an increased number of high-growth firms being supported by the local workforce and education systems, and more individuals being trained and employed in high-growth sectors.

Community colleges represent a critical 21st century training resource for workers needing to attain, retool, refine, and broaden their skills to meet industry demand. According to the Bureau of Labor Statistics, eighty percent of the fastest growing jobs in the United States require some level of post-secondary education. The accessibility and affordability of community college training, combined with the adaptability of community college curricula to changing skill needs, make community colleges a vital training resource for many U.S. workers. Furthermore, community colleges are closely connected to local labor markets, making them well-positioned to prepare workers for good jobs with good wages in the local economy.

However, community college leaders and industry executives report that many community colleges are unable to meet local demand for training because of critical capacity constraints. These capacity constraints occur when community colleges lack sufficient resources to support training facilities and equipment, curriculum development, faculty appointments, clinical experiences, and/or other elements that are necessary to provide either the volume or quality of training that industry requires. Despite rising application rates, the reality of current state and local budgets often prevents colleges from funding the programs, faculty, and student services they need to be responsive to local workforce demands.

The CBJTGs will address this critical capacity issue. Funds will be awarded to community colleges to engage in a combination of capacity building and training activities targeted at high-growth or high-demand industries in the local economy.

3. Critical Elements of Community-Based Job Training Grants

It is ETA's expectation that CBJTGs will contain at least six critical elements. These elements consist of: (A) Focus on skill and competency needs of local high-growth/high-demand industries; (B) strategic partnerships; (C) industry-driven capacity building and training efforts; (D) leveraged resources; (E) replication; and (F) clear and specific outcomes. These characteristics are reflected in the evaluation criteria in Part V and are described in further detail below. For examples of projects that integrate these elements, please see Appendix A.

A. Focus on skill and competency needs of local high-growth/high-demand industries. The Workforce Investment Act of 1998 (Pub. L. 105-220) (WIA) emphasizes a workforce system driven by the needs of local employers. In order for America to remain competitive in the global economy, it is essential that ETA target its investments to support employers in high-growth/high-demand industries. Community colleges play a vital role in this effort by providing training to address the workforce needs of these industries. A high-growth/high-demand industry meets one or more of the following criteria: (1) Is projected to add substantial numbers of new jobs to the economy; (2) has a significant impact on the economy overall; (3) impacts the growth of other industries; (4) is being transformed by technology and innovation requiring new skill sets for workers; or (5) is a new and emerging business that is projected to grow.

B. Strategic Partnerships. ETA believes that strategic partnerships between community colleges, the workforce investment system, business and industry, and the continuum of education, including the K-12 system, need to be in place in order to implement effective demand-driven training and capacity building strategies. These strategic partnerships may have a local, regional, or statewide focus, and may include a consortium of partners or cross-industry representatives. Specific requirements for strategic partnerships are outlined in Section III (3). These strategic partnerships should focus broadly on the workforce challenges of one or more high-growth, high-demand industries and work collaboratively to identify and implement solutions to those challenges. These solutions should include, among others, strategies to increase the capacity of local community colleges to educate and train more workers with industry-defined skills and competencies. Therefore, the investment in community college capacity building would be one of many strategies and solutions that evolve from the partnership. While ETA welcomes applications from newly formed strategic partnerships, applicants are advised that grant funds may not be used for partnership development.

Within the context of the broader strategic partnership and as it relates to this grant, each collaborative partner should have clearly defined roles. Each partner should verify their role through a letter of commitment attached to the proposal. The exact nature of these roles may vary depending on the issue areas being addressed and the scope and nature of the activities undertaken. However, ETA expects that each collaborative partner will, at minimum, contribute in the following ways. Employers should be actively engaged and participate fully in every aspect of grant activities including: defining the program strategy and goals; identifying needed skills and competencies; designing training approaches and curricula; implementing the program; contributing financial support; and, where appropriate, hiring qualified training graduates. The K-12 education system is an important foundational partner to ensure the project's activities are tied to the broader continuum of education in the community. The workforce investment system, which may include state and local Workforce Investment Boards, State Workforce Agencies, and One-Stop Career Centers and their cooperating partners, as such terms are defined under WIA, may play a number of roles, including: identifying and assessing candidates for training; working collaboratively to leverage WIA investments; referring qualified candidates to the community college for enrollment; providing wrap-around support services, where appropriate; and referring qualified training graduates to employers with existing job openings.

In order to maximize the success of the project and to keep pace with the rapid changes in the economy and the nature of the skills and competencies necessary for work in these industries, these strategic partnerships need to be substantial and sustained. ETA encourages partners to plan for sustainability of the partnership to enable ongoing assessment of industry workforce needs and collaborative development of solutions on an ongoing basis.

C. Industry-driven capacity building and training efforts. All CBJTGs must develop and implement a combination of capacity building and training activities that target skills and competencies demanded by local high-growth/high-demand industries. Applicants are not limited in the strategies and approaches they may employ to implement their capacity building and training strategies, provided the activities meet the following requirements:

(1) Training. Training activities must: (a) Occur within the context of a continuum of education and training that supports long-term career growth, such as an articulated career ladder/lattice and (b) result in college credit or other credentials that are industry-recognized and indicate a level of mastery and competence in a given field or function. The credential awarded to participants upon completion should be based on the type of training provided through the grant and the requirements of the targeted occupation, and should be selected based on consultations with industry partners. For example:

a. Customized and short-term training should result in a performance-based certification or certificate. This certification may be developed jointly by employers and the community college, based on defined knowledge and skill requirements for specific high-demand occupations/functions. Performance-based certifications may also be based on industry-recognized curriculum and standards.

b. Training in information technology, allied health professions, and other fields with established professional standards and examinations should result in certification.

c. In states where licensure is required for the specific occupation targeted by the training, the credentialing requirement should be set accordingly.

d. In some instances, training provided under CBJTGs may lead to a degree. In these instances, the credential required will be credit for each course leading to an Associate's or Applied Associate's degree.

(2) Capacity Building. Community colleges are encouraged to broadly assess their capacity to meet the training needs of the targeted high-growth/high-demand industry or industries. Proposed capacity building strategies are expected to address significant barriers which impede the ability of the community college to meet local industry demand for workforce training. These strategies should not simply address isolated deficits, but rather provide a comprehensive solution to identified capacity challenges as they relate to the industry or industries of focus. Examples of capacity building activities include, but are not limited to:

a. The development or adaptation of competency models and curricula to support training;

b. The development of innovative curricula, teaching methods and instructional design to maximize the impact of the initiative in meeting the skills needs of employers;

c. Innovative strategies to ensure availability of qualified and certified instructors;

d. Procurement of equipment and simulation equipment necessary to train to industry-demanded skills; or

e. Support for clinical experiences required for certification or licensure.

Capacity building activities must meet two criteria: (1) The proposed capacity building efforts must be directly linked to the specific training supported under the grant; and (2) grantees must use their grant funds in a manner consistent with the regulations and policies governing use of funds under 171(d) of WIA, which broadly allows the funds to be utilized to test an array of approaches to the provision of training services and support the development and replication of effective training strategies.

D. Leveraged Resources. Projects funded through CBJTGs should leverage resources from key entities in the strategic partnership. Leveraging resources in the context of strategic partnerships accomplishes three goals: (1) It allows for the strategic pursuit of resources; (2) it increases stakeholder investment in the project at all levels including design and implementation phases; and (3) it broadens the impact of the project itself. Applicants are encouraged to leverage significant resources from key partners and other organizations to maximize the impact of the project on the community.

ETA strongly encourages CBJTG applicants and their strategic partners to be entrepreneurial as they seek out, utilize, and sustain these resources, whether they are in-kind or cash contributions, when creating capacity building and training strategies. Businesses, faith-based and community organizations, and foundations often invest resources to support workforce development. Faith-based and community organizations may provide resources such as support services, mentoring, tutoring, and volunteers, all of which are important resources for grantees to leverage in assisting the populations targeted by these funds. In addition, other government programs, including the Department of Education, the Department of Commerce, and other ETA programs, such as registered apprenticeship and Job Corps, may have resources available that can be integrated into the proposed project.

ETA also encourages applicants to integrate WIA funding at the state and local level into their proposed project. Integrating WIA funds ensures that the full spectrum of assets available from the workforce system is leveraged to support the capacity building and training activities. The wide variety of WIA programs and activities provide both breadth and depth to the proposed solution offered to both business and individuals. The use of WIA funds also serves to embed the solutions-based approach into the local or regional workforce investment system, which strengthens the system's ability to become more demand-driven.

E. Replication. CBJTGs are intended to drive the community college system and the workforce investment system to be more responsive to the workforce demands of industry by making the products, models, and effective approaches that result from CBJTG investments available to both systems. To that end, grantees will develop the foundations and outcomes of CBJTG projects, including the learning and achievement resulting from the projects, into solutions-based models that can be shared with, and implemented by, other community colleges, the workforce system, and industry leaders.

F. Outcomes. The CBJTGs will be fundamentally results-oriented. Therefore, clear and specific outcomes that are appropriate to the nature of the proposed activities and the size of the project are vital components of CBJTG projects. Because CBJTGs invest in customized strategies to address local workforce and skills shortages, ETA recognizes that specific outcomes will vary from project to project based on the specific activities proposed. Training outcomes should include those tracked by the Common Measures, the OMB-approved uniform evaluation metrics for job training and employment programs. A detailed description of ETA's policy on the Common Measures can be found in the Training and Employment Guidance Letter (TEGL) No. 28-04 (http://wdr.doleta.gov/directives/attach/TEGL28-04.pdf). A basic list of Common Measures is provided as attachment B to the TEGL (http://wdr.doleta.gov/directives/attach/TEGL28-04_AttachB.pdf). Capacity building outcomes should include products, models, and activities that increase the capacity of the community college to provide training as well as the impact each outcome has on the number of individuals the community college can train and/or the quality of that training. Outcomes and impacts of the proposed project should satisfactorily address the industry-identified workforce need and the community college capacity constraint identified by the partnership.

II. Award Information

1. Award Amount

ETA intends to fund approximately seventy-five (75) projects through grants ranging from $500,000 to $2 million through this competition; however, this does not preclude ETA from funding grants at either a lower or higher amount, or funding a smaller or larger number of projects, based on the type and the number of quality submissions. Applicants are encouraged to submit budgets for quality projects at whatever funding level is appropriate to the project. Nevertheless, applicants should recognize that the funds available through this SGA are intended to complement additional leveraged resources rather than be the sole source of funds for the proposal. A second competition planned for Fall/Winter 2005 will request applications for the funding of additional projects.

2. Period of Performance

ETA intends that the initial period of grant performance will fall within a range of 24 to 36 months from the date of execution of the grant documents. However, ETA will determine an appropriate period of performance on a per-award basis that will allow for the completion of capacity building and training efforts, and allow time for post-training participant tracking in the workplace.

III. Eligibility Information

1. Eligible Applicants

In order to be eligible for consideration under this solicitation, the applicant must be a publicly funded institution of higher education that grants associate degrees. Therefore, applicants must demonstrate that they comply with the definition of a community college in 20 U.S.C. 2371:

The term “community college”—(A) means an institution of higher education [as defined in 20 U.S.C. 1001] that provides not less than a 2-year program that is acceptable for full credit towards a bachelor's degree; and (B) includes tribally controlled colleges and universities.

Applicants that fail to meet this eligibility requirement will be removed from consideration prior to the technical review process. Please note: (1) The applicant and fiscal agent for this grant initiative must be the same entity; and (2) in accordance with Section 18 of the Lobbying Disclosure Act of 1995 (Pub. L. 104-65) (2 U.S.C. 1611), non-profit entities incorporated under Internal Revenue Service Code section 501(c)(4) that engage in lobbying activities are not eligible to receive Federal funds and grants.

2. Cost Sharing or Matching

Cost sharing, matching, or cost participation is not required for eligibility; however, applicants are encouraged to leverage the resources of the partnership whenever possible.

3. Other Grant Specifications

(1) Demonstrated Partnerships. To be considered for funding under this SGA, the applicant must demonstrate that the proposed project will be implemented by a strategic partnership that includes at least one entity from each of the following categories: (1) The publicly-funded Workforce Investment System, which may include state and local Workforce Investment Boards, State Workforce Agencies, and One Stop Career Centers and their partners; (2) the community college system; (3) employers and industry-related organizations such as associations and unions; and (4) the continuum of education, including the K-12 public education system. The strategic partnership may be a legally organized partnership or joint venture, or a more informal collaboration. As discussed above in Section III(1), the applicant itself, for the purpose of being bound in the grant application and any resulting award, must be a publicly funded community college.

(2) Required Capacity Building and Training Activities. To be considered for funding under this SGA, proposed grant activities must include a combination of capacity building and training activities that target skills and competencies demanded by local high-growth/high-demand industries. Training activities must result in college credit or other credentials that are industry-recognized and indicate a level of mastery and competence in a given field or function. Proposed capacity building activities must address barriers that impede the ability of the community college to meet local industry demand for workforce training and must be directly linked to the specific training supported under the grant. Applicants may propose a cross-cutting capacity building and training strategy that will support training in more than one high growth/high demand industry if the applicant can demonstrate that skill needs in the identified industries are shared.

(3) Participants Eligible to Receive Training. Generally, the scope of potential trainees is very broad. WIA Sec. 171(d) authorizes demonstration programs to serve dislocated workers, incumbent workers, and new entrants to the workforce. This authorization supports a broad range of training for a variety of populations, including: Incumbent workers who need new skills for jobs in demand up the career ladder or because the skill needs for their current job have changed; untapped labor pools such as immigrant workers, individuals with disabilities, veterans, older workers, youth, etc; or entry level workers who need basic skills and/or specific occupational skill training. The identification of targeted and qualified trainees should be part of the larger project planning process undertaken by the required partnership and should relate to the workforce issue that is being addressed by the training.

(4) Training Providers. The community college applicant must offer appropriate credentials for all proposed training. Generally, it is assumed that the applicant will also be the training provider. However, ETA encourages applicants to be creative in integrating partner resources into the training plan. For example: A business partner may provide a qualified instructor to the community college; the community college may provide on-site training for workers to take advantage of business-loaned equipment; the training may be provided jointly; or some of the training may utilize distance learning alternatives.

(5) Veterans Priority. In circumstances where a grant recipient must choose between two equally qualified candidates for training, one of whom is a veteran, the Jobs for Veterans Act (Pub. L. 107-288) requires that grant recipients give the veteran priority of service by admitting him or her. The Jobs for Veterans Act provides priority of service to veterans and spouses of certain veterans for the receipt of employment, training, and placement services in any job training program directly funded, in whole or in part, by the Department of Labor. Please note that, to obtain priority of service, a veteran must meet the program's eligibility requirements. ETA Training and Employment Guidance Letter (TEGL) No. 5-03 (September 16, 2003) provides general guidance on the scope of the Job for Veterans Act and its effect on current employment and training programs. TEGL No. 5-03, along with additional guidance, is available at the “Jobs for Veterans Priority of Service” Web site (http://www.doleta.gov/programs/vets).

IV. Application and Submission Information

1. Address To Request Application Package

This SGA contains all of the information and forms needed to apply for grant funding.

2. Content and Form of Application Submission

The proposal must consist of two (2) separate and distinct parts, Parts I and II. Applications that fail to adhere to the instructions in this section will be considered non-responsive and may not be given further consideration.

Part I of the proposal is the Cost Proposal and must include the following three items.

• The Standard Form (SF) 424, “Application for Federal Assistance” (Appendix B) (available at http://www.whitehouse.gov/omb/grants/sf424.pdf). The SF 424 must clearly identify the applicant and be signed by an individual with authority to enter into a grant agreement. Upon confirmation of an award, the individual signing the SF 424 on behalf of the applicant shall be considered the representative of the applicant.

• All applicants for federal grant and funding opportunities are required to have a Dun and Bradstreet (DUNS) number. See Office of Management and Budget (OMB) Notice of Final Policy Issuance, 68 FR 38402 (June 27, 2003). Applicants must supply their DUNS number in item #5 of the new SF 424 issued by OMB (Rev. 9-2003). The DUNS number is a nine-digit identification number that uniquely identifies business entities. Obtaining a DUNS number is easy and there is no charge. To obtain a DUNS number, access this Web site: http://www.dunandbradstreet.com or call 1-866-705-5711.

• SF 424A, the Budget Information Form (Appendix C) (available at http://www.whitehouse.gov/omb/grants/sf424a.pdf). In preparing the Budget Information Form, the applicant must provide a concise narrative explanation to support the request. The budget narrative should break down the budget and leveraged resources by deliverable, should discuss cost per-participant, and should discuss precisely how the administrative costs support the project goals.

Please note that applicants that fail to provide a SF 424, SF 424A and/or a budget narrative will be removed from consideration prior to the technical review process. Applicants are also encouraged, but not required, to submit OMB Survey N. 1890-0014: Survey on Ensuring Equal Opportunity for Applicants, which can be found in Attachment D.

Part II of the application is the Technical Proposal, which demonstrates the applicant's capabilities to plan and implement the CBJTG in accordance with the provisions of this solicitation. The Technical Proposal is limited to twenty (20) double-spaced, single-sided, 8.5 inch x 11 inch pages with 12 point text font and one-inch margins. In addition, in attachments which may not exceed ten (10) pages, the applicant may provide resumes, a list of staff positions to be funded by the grant, statistical information and other related material. The required letters of commitment from partners must be submitted as additional attachments, which will not count against the allowable 10-page limit on attachments. The applicant must reference any partners in the text of the Technical Proposal. No cost data or reference to prices should be included in the Technical Proposal. The following information is required:

• A two-page abstract summarizing the proposed project and applicant profile information including: Applicant name, project title, industry focus, partnership members, proposed training and capacity building activities, funding level requested, and the amount of leveraged resources;

• A table of contents listing the application sections;

• A time line outlining project activities and an anticipated schedule for deliverables; and

• A project description as described in the Evaluation Criteria section at Part V(1) of this solicitation.

Please note that the abstract, table of contents, and time line are not included in the twenty page limit. Applications that do not provide Part II of the application will be removed from consideration prior to the technical review process.

Applications may be submitted electronically on Grants.gov or in hard-copy via mail or hand delivery. These processes are described in further detail in section IV(3). Applicants submitting proposals in hard-copy must submit an original signed application (including the SF 424) and one (1) “copy-ready” version free of bindings, staples or protruding tabs to ease in the reproduction of the proposal by DOL. Applicants submitting proposals in hard-copy are also requested, though not required, to provide an electronic copy of the proposal on CD-ROM.

3. Submission Date, Times, and Addresses

The closing date for receipt of applications under this announcement is July 6, 2005. Applications must be received at the address below no later than 5 p.m. (Eastern Time). Applications sent by e-mail, telegram, or facsimile (fax) will not be accepted. Applications that do not meet the conditions set forth in this notice will not be honored. No exceptions to the mailing and delivery requirements set forth in this notice will be granted.

ETA will host CHJTG Virtual Prospective Applicant Conferences for this grant competition. The dates and access information for these prospective applicant conferences will be posted on ETA's Web site at http://www.doleta.gov/business/Community-BasedJobTrainingGrants.cfm.

Mailed applications must be addressed to the U.S. Department of Labor, Employment and Training Administration, Division of Federal Assistance, Attention: Eric Luetkenhaus, Grant Officer, Reference SGA/DFA-PY-04-10, 200 Constitution Avenue, NW., Room N-4438, Washington, DC 20210. Applicants are advised that mail delivery in the Washington area may be delayed due to mail decontamination procedures. Hand delivered proposals will be received at the above address. All overnight mail will be considered to be hand-delivered and must be received at the designated place by the specified closing date.

Applicants may apply online through Grants.gov (http://www.grants.gov). It is strongly recommended that applicants using Grants.gov immediately initiate and complete the “Get Started” registration steps at http://www.grants.gov/GetStarted. These steps may take multiple days to complete, and this time should be factored into plans for electronic application submission in order to avoid facing unexpected delays that could result in the rejection of an application. If submitting electronically through grants.gov, it would be appreciated if the application submitted is saved as .doc, .pdf or .txt files

Late Applications: Any application received after the exact date and time specified for receipt at the office designated in this notice will not be considered, unless it is received before awards are made and it (a) was sent by U.S. Postal Service registered or certified mail not later than the fifth calendar day before the date specified for receipt of applications (e.g., an application required to be received by the 20th of the month must be post marked by the 15th of that month) or (b) was sent by U.S. Postal Service Express Mail or Grants.gov to the addressee not later than 5 p.m. at the place of mailing or electronic submission one working day prior to the date specified for receipt of applications. It is highly recommended that online submissions be completed one working day prior to the date specified for receipt of applications to ensure that the applicant still has the option to submit by U.S. Postal Service Express Mail in the event of any electronic submission problems. “Post marked” means a printed, stamped or otherwise placed impression (exclusive of a postage meter machine impression) that is readily identifiable, without further action, as having been supplied or affixed on the date of mailing by an employee of the U.S. Postal Service. Therefore, applicants should request the postal clerk to place a legible hand cancellation “bull's eye” postmark on both the receipt and the package. Failure to adhere to the above instructions will be a basis for a determination of nonresponsiveness.

4. Intergovernmental Review

This funding opportunity is not subject to Executive Order (EO) 12372, “Intergovernmental Review of Federal Programs.”

5. Funding Restrictions

Determinations of allowable costs will be made in accordance with the applicable Federal cost principles, e.g., Educational Institution—OMB Circular A-21. Disallowed costs are those charges to a grant that the grantor agency or its representative determines not to be allowed in accordance with the applicable Federal Cost Principles or other conditions contained in the grant. Applicants will not be entitled to reimbursement of pre-award costs.

Limitations on Cost Per-Participant. Because the costs of training may vary considerably depending on the skills and competencies required in different occupations in different industries, flexibility will be provided on cost per-participant. However, applications for funding will be reviewed to determine if the cost of the training is appropriate and will produce the outcomes identified. Applicants should demonstrate that the proposed cost per-participant is aligned with existing price structures for similar training in the local area, if available, or with the community college's existing price structures for the type of program offered.

Administrative Costs. An entity that receives a CBJTG to carry out a project or program may not use more than 5 percent of the total amount of the grant to pay administrative costs associated with the program or project. The Grant Officer reserves the right to negotiate administrative cost levels prior to award. Administrative costs are defined at 20 CFR 667.220. Although there will be administrative costs associated with the management of the partnership as it relates to specific grant activity, the primary use of funding should be to support the capacity building and training activities.

ETA Intellectual Property Rights. Applicants should note that grantees must agree to provide DOL/ETA a paid-up, nonexclusive and irrevocable license to reproduce, publish, or otherwise use for federal purposes all products developed, or for which ownership was purchased, under an award, including, but not limited to, curricula, training models, technical assistance products, and any related materials, and to authorize them to do so. Such uses include, but are not limited to, the right to modify and distribute such products worldwide by any means, electronically or otherwise.

Legal Rules Pertaining to Inherently Religious Activities by Organizations that Receive Federal Financial Assistance. The government is prohibited from providing direct support to religious activity ¹. See 29 CFR part 2, subpart D. Funds from these grants may not be used to directly support religious instruction, worship, prayer, proselytizing or other inherently religious practices. Neutral, secular criteria that neither favor nor disfavor religion must be employed in the selection of grant and sub-grant recipients. In addition, under the WIA and DOL regulations implementing the Workforce Investment Act, a recipient may not use direct Federal assistance to train a participant in religious activities or employ participants to construct, operate, or maintain any part of a facility that is used or to be used for religious instruction or worship. See 29 CFR 37.6(f). Under WIA, “no individual shall be excluded from participation in, denied the benefits of, subjected to discrimination under, or denied employment in the administration of or in connection with, any such program or activity because of race, color, religion, sex (except as otherwise permitted under Title IX of the Education Amendments of 1972), national origin, age, disability, or political affiliation or belief”.

¹ The term “direct” support is used to describe funds or other support that are provided “directly” by a governmental entity or an intermediate organization with the same duties as a governmental entity, as opposed to funds that an organization receives “indirectly” as the result of the genuine and independent private choice of a beneficiary within the meaning of the Establishment Clause of the U.S. Constitution.

6. Withdrawal of Applications

Applications may be withdrawn by written notice or telegram (including mailgram) received at any time before an award is made. Applications may be withdrawn in person by the applicant or by an authorized representative thereof, if the representative's identity is made known and the representative signs a receipt for the proposal.

V. Application Review Information

1. Evaluation Criteria

This section identifies and describes the criteria that will be used to evaluate proposals for a Community-Based Job Training Grant. These criteria and point values are:

Criterion | Points
A. Statement of Need | 15
B. Linkages to Key Partners | 20
C. Training and Capacity Building Plan | 25
D. Outcomes, Benefits, and Impact | 30
E. Program Management and Organization Capacity | 10
Total Possible Points | 100

A. Statement of Need (15 Points)

Scoring on this criterion will be based on the extent to which the applicant demonstrates a clear and specific need for Federal investment in the proposed activities. Applicants must demonstrate this need by: (a) Identifying the industry or industries of focus; (b) establishing that the identified industry satisfies ETA's criteria for a high-growth/high-demand industry in the local economy as described in Part I(1) of this solicitation; (c) providing evidence of industry demand for training in the local economy; and (d) describing in detail the capacity challenges the community college faces that limit its ability to provide sufficient quantity or quality of training to meet the identified industry's demand. In addition, applicants should provide evidence that the capacity challenge to be addressed by the grant was identified in the context of the strategic partnership. Applicants may draw from a variety of resources for supporting data, including: traditional labor market information, such as projections; industry data, such as from trade associations or direct information from the local industry; and information on the local economy and other transactional data, such as job vacancies, that are available locally.

Additional important factors for evaluation include:

• The extent to which the targeted industry is high-growth or high-demand in the context of the local economy;

• Identification of local workforce or skills shortages within the targeted industry;

• Demonstrated existence of the identified capacity constraint at the community college at which the grant activity will take place;

• Identification of the sources of the data used in the analysis; and

• If appropriate, the nature of larger strategic economic development or workforce investment projects with which the proposed project is aligned.

B. Linkages to Key Partners (20 Points)

The applicant must demonstrate that the proposed project will be implemented by a strategic partnership that includes at least one entity from each of four categories: (1) The workforce investment system, which may include state and local Workforce Investment Boards, State Workforce Agencies, and One Stop Career Centers and their partners, as such terms are defined under WIA; (2) community colleges; (3) employers and industry-related organizations such as associations and unions; and (4) the continuum of education, including the K-12 public education system. The applicant must identify the partners, explain the meaningful role each partner will play in the project, and document the resources leveraged from each partner. Collaborating partners must verify their role through a letter of commitment attached to the proposal. Applicants should also identify resources leveraged from other organizations, including other workforce investment system partners.

ETA encourages, and will be looking for, applications that go beyond the minimum level of partnership and demonstrate broader, substantive and sustainable partnerships. If appropriate, applicants should also demonstrate the existence of a sustainability plan for the strategic partnership beyond the funding period.

Scoring on this criterion will be based on: (1) Evidence that the partnership contains each of the required entities; (2) the degree to which each partner plays a committed role, either financial or non-financial, in the proposed project; and (3) the robustness of the applicant's plan for sustaining the partnership beyond the funding period. Applications that do not have each of the four required entities represented in the partnership cannot receive full points in this section. The following elements will also be considered:

• The overall completeness of the strategic partnership, including its ability to manage all aspects and stages of the project and to coordinate individual activities with the partnership as a whole;

• The scope of each partner's contribution, their knowledge and experience concerning the proposed grant activities, and their ability to impact the success of the project;

• Evidence, including letters of support, that key partners have expressed a clear commitment to the project and understand their areas of responsibility;

• Evidence of a plan for interaction between partners at each stage of the project, from planning to execution; and

• Evidence that the partnership has the capacity to achieve the outcomes of the proposed project.

C. Training and Capacity Building Plan (25 Points)

The applicant must describe its proposed capacity building and training strategies in full. The description should demonstrate: (1) That the proposed project will address identified industry workforce or skills shortages and identified capacity constraints at the community college level; (2) that the proposed project clearly integrates industry-driven capacity building and training activities; (3) that proposed capacity building solutions are broad based and include an appropriate range of activities; (4) that proposed training activities occur within the context of a continuum of education and training that supports long-term career growth, such as an articulated career ladder/lattice; (5) that proposed training activities lead to appropriate credentialing; and (6) that the applicant has a clear understanding of the tasks required to successfully meet the objectives of the grant.

Scoring on this criterion will be based on evidence that the applicant has developed effective, innovative training and capacity building strategies and a plan of implementation that will satisfy the six conditions described above. Additional factors that will be considered include:

• The existence of a work plan that is responsive to the applicant's statement of need and includes specific goals, objectives, activities, implementation strategies, and a timeline;

• The demonstrated link between the proposed project and the identified industry workforce or skills shortages and identified capacity constraints at the community college level.

• The extent to which the work plan provides an understanding of the entire project's intended implementation;

• The feasibility and sensibility of the timeframes for the accomplishment of tasks;

• The extent to which the budget is justified with respect to the adequacy and reasonableness of resources requested;

• The extent to which budget line items are consistent with and tied to the work plan objectives;

• Evidence that the proposed cost per-participant is aligned with existing price structures for similar training; and

• Evidence of a robust outreach strategy that includes the dissemination of information regarding the project to others who would benefit most, and if appropriate, recruitment of eligible participants.

D. Outcomes, Benefits, and Impact (30 Points)

Applicants must describe fully the predicted outcomes and products resulting from the project. Applicants should particularly highlight the benefits and impact of the outcomes and products on the larger capacity constraint described in the statement of need. Scoring on this criterion will be based on two broad elements:

1. The expected project outcomes are clearly identified, measurable, realistic, and consistent with the objectives of the project. Key elements for training and capacity building aspects of the proposal are below.

a. Training: Applicants must track training outcome measures, including all appropriate adult or youth Common Measures, such as employment placement numbers and/or earnings gains and retention. Other outcome measures that should be tracked include the number of individuals awarded credentials or degrees, and outcome measures specific to the proposed training project. Applications must also identify the credential that participants will earn as a result of the proposed training, and the employer-, industry-, vendor-, or state-defined standards associated with the credential. If the credential targeted by the training project is a certificate or performance-based certification, applicants should either (a) demonstrate employer engagement in the curriculum development process, or (b) indicate that the certification will translate into concrete job advancement opportunities with an employer.

b. Capacity Building: Applicants must clearly describe all products, models, curricula, etc. that will be developed or acquired with federal funds through the grant and indicate the number of participants or entities who will benefit from the proposed activities. Applicants must describe the data measures that will be used to measure how the proposed capacity building activities impact the ability of the community college to train workers for skills in demand by the targeted industry. Applicants should indicate the long-term impact of the proposed project on the ability of the community college to meet local workforce demands.

2. The proposed outcomes will translate into the successful alleviation of the community college's identified capacity challenges.

Additional factors that will be considered in the scoring of this criterion include:

• The ability of the applicant to achieve the stated outcomes within the time frame of the grant; and

• The appropriateness of the outcomes with respect to the requested level of funding.

E. Program Management and Organization Capacity (10 Points)

To satisfy this criterion, applicants must describe their proposed project management structure including, where appropriate, the identification of a proposed project manager, and discuss the proposed staffing pattern and the qualifications and experience of key staff members. Applicants should also give evidence of the use of data systems to track outcomes in a timely and accurate manner. The applicant should include a description of organizational capacity and the organization's track record in projects similar to that described in the proposal and/or related activities of the primary partners.

Scoring under this criterion will be based on the extent to which applicants provide evidence of the following:

• The time commitment of the proposed staff is sufficient to ensure proper direction, management, and timely completion of the project;

• The roles and contribution of staff, consultants, and collaborative organizations are clearly defined and linked to specific objectives and tasks;

• The background, experience, and other qualifications of the staff are sufficient to carry out their designated roles; and

• The applicant organization has significant capacity to accomplish the goals and outcomes of the project, including the ability to collect and manage data in a way that allows consistent, accurate, and expedient reporting.

2. Review and Selection Process

Applications for the Community-Based Job Training Grants will be accepted after the publication of this announcement until the closing date. A technical review panel will make a careful evaluation of applications against the criteria set forth in Section V(A) of this document. These criteria are based on the policy goals, priorities, and emphases set forth in this SGA. Up to 100 points may be awarded to an application, based on the required information described in Section V(1). The ranked scores will serve as the primary basis for selection of applications for funding, in conjunction with other factors such as urban, rural, and geographic balance; the availability of funds; and which proposals are most advantageous to the Government. The panel results are advisory in nature and not binding on the Grant Officer, who may consider any information that comes to his attention. DOL may elect to award the grant(s) with or without discussions with the applicants. Should a grant be awarded without discussions, the award will be based on the applicant's signature on the SF 424, which constitutes a binding offer.

VI. Award Administration Information

1. Award Notices

All award notifications will be posted on the ETA Homepage (http://www.doleta.gov). Non-selected applicants will be notified by mail.

2. Administrative and National Policy Requirements

A. Administrative Program Requirements

All grantees will be subject to all applicable Federal laws, regulations, and the applicable OMB Circulars. The grant(s) awarded under this SGA will be subject to the following administrative standards and provisions, if applicable:

1. Workforce Investment Boards—20 Code of Federal Regulations (CFR) Part 667.220. (Administrative Costs).

2. Non-Profit Organizations—OMB Circulars A-122 (Cost Principles) and 29 CFR Part 95 (Administrative Requirements).

3. Educational Institutions—OMB Circulars A-21 (Cost Principles) and 29 CFR Part 95 (Administrative Requirements).

4. State and Local Governments—OMB Circulars A-87 (Cost Principles) and 29 CFR Part 97 (Administrative Requirements).

5. Profit Making Commercial Firms—Federal Acquisition Regulation (FAR)—48 CFR Part 31 (Cost Principles), and 29 CFR Part 95 (Administrative Requirements).

6. All entities must comply with 29 CFR Parts 93 and 98, and, where applicable, 29 CFR Parts 96 and 99.

7. The following administrative standards and provisions may also be applicable:

a. 29 CFR part 2, subpart D—Equal Treatment in Department of Labor Programs for Religious Organizations, Protection of Religious Liberty of Department of Labor Social Service Providers and Beneficiaries;

b. 29 CFR part 30—Equal Employment Opportunity in Apprenticeship and Training;

c. 29 CFR part 31—Nondiscrimination in Federally Assisted Programs of the Department of Labor—Effectuation of Title VI of the Civil Rights Act of 1964;

d. 29 CFR part 32—Nondiscrimination on the Basis of Handicap in Programs and Activities Receiving or Benefiting from Federal Financial Assistance;

e. 29 CFR part 33—Enforcement of Nondiscrimination on the Basis of Handicap in Programs or Activities Conducted by the Department of Labor;

f. 29 CFR part 35—Nondiscrimination on the Basis of Age in Programs or Activities Receiving Federal Financial Assistance from the Department of Labor;

g. 29 CFR part 36—Nondiscrimination on the Basis of Sex in Education Programs or Activities Receiving Federal Financial Assistance;

h. 29 CFR part 37—Implementation of the Nondiscrimination and Equal Opportunity Provisions of the Workforce Investment Act of 1998 (WIA).

8. In accordance with Section 18 of the Lobbying Disclosure Act of 1995 (Pub. L. 104-65) (2 U.S.C. 1611) non-profit entities incorporated under Internal Revenue Service Code section 501(c) (4) that engage in lobbying activities are not eligible to receive Federal funds and grants.

Note: Except as specifically provided in this Notice, DOL/ETA's acceptance of a proposal and an award of Federal funds to sponsor any program(s) does not provide a waiver of any grant requirements and/or procedures. For example, OMB Circulars require that an entity's procurement procedures must ensure that all procurement transactions are conducted, as much as practical, to provide open and free competition. If a proposal identifies a specific entity to provide services, the DOL/ETA's award does not provide the justification or basis to sole source the procurement, i.e., avoid competition, unless the activity is regarded as the primary work of an official partner to the application.

B. Special Program Requirements

Evaluation. DOL may require that the program or project participate in an evaluation of overall performance of CBJTGs. To measure the impact of the CBJTGs, ETA may arrange for or conduct an independent evaluation of the outcomes and benefits of the projects. Grantees must agree to make records on participants, employers and funding available, and to provide access to program operating personnel and participants, as specified by the evaluator(s) under the direction of ETA, including after the expiration date of the grant.

C. Reporting

The grantee is required to provide the reports and documents listed below:

Quarterly Financial Reports. A Quarterly Financial Status Report (SF 269) is required until such time as all funds have been expended or the grant period has expired. Quarterly reports are due 30 days after the end of each calendar year quarter. Grantees must use ETA's On-Line Electronic Reporting System.

Quarterly Progress Reports. The grantee must submit a quarterly progress report to the designated Federal Project Officer within 30 days after the end of each calendar year quarter. Two copies are to be submitted providing a detailed account of activities undertaken during that quarter. DOL may require additional data elements to be collected and reported on either a regular basis or special request basis. Grantees must agree to meet DOL reporting requirements. The quarterly progress report should be in narrative form and should include:

1. General grant information, including: a general overview of project progress, new developments and resolution of previous issues and challenges; a discussion of planned grant activities and any other grant-related events; an explanation of any issues/challenges encountered and the proposed strategies to overcome them; a description of major accomplishments, innovations, or promising approaches and processes; product deliverables and outcomes resulting from the project; and a status update on leveraged resources;

2. Information on all training, employer, and grant deliverable outcomes as well as the anticipated impact of these outcomes on the community college, industry partners, and the broader community;

3. Summary of the status of grant deliverables and dissemination activities;

4. Highlights of promising approaches and success stories; and

5. Description of technical assistance needs.

Final Report. A draft final report must be submitted no later than 60 days prior to the expiration date of the grant. This report must summarize project activities, employment outcomes, and related results of the training project, and should thoroughly document capacity building and training approaches. After responding to DOL questions and comments on the draft report, three copies of the final report must be submitted no later than the grant expiration date. Grantees must agree to use a designated format specified by DOL for preparing the final report.

VII. Agency Contacts

Any questions regarding this SGA should be faxed to Kevin Brumback, Grants Management Specialist, Division of Federal Assistance, FAX number (202) 693-2705. (This is not a toll-free number). You must specifically address your FAX to the attention of Kevin Brumback and should include SGA/DFA-PY-04-10, a contact name, fax and phone number.

FOR FURTHER INFORMATION CONTACT: Please contact Kevin Brumback, Grants Management Specialist, Division of Federal Assistance, at (202) 693-3381. (This is not a toll-free number). This announcement is also being made available on the ETA Web site at http://www.doleta.gov/sga/sga.cfm and http://www.grants.gov.

VIII. Other Information

Resources for the Applicant

DOL maintains a number of web-based resources that may be of assistance to applicants.

• The Web page for the Employment and Training Administration's Business Relations Group (http://www.doleta.gov/BRG) is a valuable source for background information on the President's High Growth Job Training Initiative, the predecessor to the Community-Based Job Training Grants.

• For additional information on the workforce investment system, please see the “Community Based Organization Information Booklet” at (http://www.dol.gov/cfbci/cbobook.htm#investmentact).

• America's Service Locator (http://www.servicelocator.org) provides a directory of our nation's One-Stop Career Centers.

• Applicants are encouraged to review “Help with Solicitation for Grant Applications” (http://www.dol.gov/cfbci/sgabrochure.htm).

• For a basic understanding of the grants process and basic responsibilities of receiving Federal grant support, please see “Guidance for Faith-Based and Community Organizations on Partnering with the Federal Government” (http://www.whitehouse.gov/government/fbci/guidance/index.html).

Signed at Washington, DC, this 28th day of April, 2005.
Eric D. Luetkenhaus,
Employment and Training Administration, Grant Officer.

Appendix A: Examples of Demand-Driven Community College Capacity Building and Training Programs

Appendix B: SF 424—Application Form

Appendix C: SF 424A—Budget Information Form

Appendix D: OMB Survey N. 1890-0014: Survey on Ensuring Equal Opportunity for Applicants

Appendix A: Examples of Demand-Driven Community College Capacity Building and Training Programs

Example 1: Rural Community Needs Health Care Workers

Need: A rural community in the Midwest is experiencing a critical shortage of health care workers despite a high unemployment rate in the region due to the closing of several manufacturing plants, as well as a significant number of returning veterans. The local community college has several training programs to prepare health care workers, however, the equipment used by the college is out of date and local health care providers do not believe that the college's graduates are adequately prepared for the workplace.

Partnership: Executives from the community's major health care providers have approached the college with ideas for improving the health care curriculum, in particular the laboratory and clinical experiences required for graduation. The college president convened an Advisory Panel to evaluate the current curriculum and the industry's proposal, and to develop a recommend course of action for improving the college's health care training programs. The Advisory Panel includes: Physicians; nurses, health care administrators; the chairs of the local workforce investment board and economic development agency; the One-Stop operator; the dedicated veterans representative; representatives from the local school district; adult education providers, and the state university system; and representatives for senior citizens, dislocated workers, and youth.

Proposed Project: The Advisory Panel developed recommendations for improving the college's capacity to train new health care workers, as well as the type of training and clinical experiences provided. The new curriculum aligns with national standards for accreditation, and graduates will be prepared to take certification exams offered by national health care professional organizations. In addition, the Advisory Panel recommended that the college take immediate steps to revamp the existing laboratory space used by the health care training programs. A local hospital has agreed to donate half the equipment needed to modernize the labs, dependent on the college's ability to leverage resources for the remaining equipment needs. The Advisory Panel noted that many of the region's workers who were dislocated due to plant closings lack a high school diploma, a prerequisite of the health care training programs. The Advisory Panel recommended that the college work with local adult basic education providers to link GED preparation courses with the introductory coursework required in the first semester of the health care training programs, allowing students to earn their GED while developing new occupational skills. The Advisory Panel also recommended convening a working group to crosswalk the skill sets of returning veterans with the new curriculum and local health care provider needs and to develop and outreach strategy to the veterans community. The college anticipates graduating fifty additional health care workers each year as a result of the proposed curriculum changes, connections with adult basic education and veterans community, and laboratory upgrades.

Example 2: Native American Community Needs IT Workers

Need: A tribal college has recently implemented vendor-based IT certification programs in response to the demand by local business leaders for credential system administrators and other IT professionals. While the college has up-to-date equipment and numerous student applications, it has been unable to attract qualified faculty to fully staff the programs.

Partnership: Several years ago, local business and education leaders identified IT skills as an essential need in the community. They formed a group to spearhead several technology initiatives, including expanding the technology curriculum at the local high school and opening a new computer laboratory for vendor-based certification programs at the tribal college. The group included: Tribal, business, and education leaders; parents; and representatives from the local economic development and workforce investment systems. The tribal college has recently approached the group for help in solving the staffing problem.

Proposed Project: The group explored several options and developed a proposal for attracting qualified faculty, including a competitive wage scale and expanded benefits. The plan also includes incentives for helping qualified tribal members attain the professional credentials and experiences needed to join the faculty. The college anticipates that these plans will succeed in filling four faculty positions, which will allow the programs to graduate an additional one hundred certified IT professionals per year.

Example 3: Connections to Youth Programs

Need: The local IT industry has identified a problem with garnering interest among young people to pursue careers in network and systems administration. Through collaborations with the local One-Stop Career Center, several employers have recently learned about the region's Job Corps center which trains at-risk youth for careers, including IT careers. The employers interviewed several Job Corps graduates and determined that while the Job Corps students have good basic computer skills, they are not quite ready for the network and systems administration positions that employers are trying to fill.

Partnerships: At the next WIA Youth Council meeting, the employers bring their concerns to the table and ask the council to help them develop solutions to the problem. The head of the local community college sits on the Youth Council and suggests that the college's IT vendor certification programs may be an appropriate next training step for the Job Corps graduates and for other youth enrolled in the local WIA Youth program. The employers are familiar with the competencies developed through the vendor certification programs and agree that these are the skills they are seeking.

Proposed Project: In subsequent Youth Council meetings, representatives for the employers, Job Corps, WIA Youth programs, and the community college work to develop a plan for:

1. Identifying youth who might be successful network or systems administration candidates;

2. Referring youth to the community college's vendor certification programs;

3. Training youth in the skills and competencies the employers require; and

4. Connecting program graduates with existing openings in the field through the local One-Stop Career Center.

The program is successfully implemented after several months of planning, and the employers are pleased with the advanced skills of the youth that are referred by the local One-Stop Career Center. Unfortunately, there is now more demand for the community college's IT training programs than there are slots for student enrollment due to computer laboratory and faculty constraints. Working with representatives of the local IT industry, the partners have identified several highly experienced and qualified executives who are interested in teaching IT courses at the community college part-time. This solution will address part of the capacity constraint issue; however, the college still needs to resolve the problem of computer lab space. The local Workforce Investment Board Chair suggests that the partners prepare a proposal for a Community-Based Job Training Grant to help support the needed computer laboratory expansion.

BILLING CODE 4510-30-P

[FR Doc. 05-8772 Filed 5-2-05; 8:45 am]

BILLING CODE 4510-30-C